UNIFIED CARRIER REGISTRATION PLAN

Sunshine Act Meetings

TIME AND DATE: July 16, 2025, 12:00 p.m. to 3:00 p.m., Eastern time.

PLACE: The meeting will be accessible via conference call and via Zoom Meeting and Screenshare. Any interested person may call (i) 1-929-205-6099 (US Toll) or 1-669-900-6833 (US Toll), Meeting ID: 961 0552 0320, to listen and participate in this meeting. The website to participate via Zoom Meeting and Screenshare is https://kellen.zoom.us/meeting/register/zcYPuD3TSmW5lZgbVRu1gg.

STATUS: This meeting will be open to the public.

MATTERS TO BE CONSIDERED: The Unified Carrier Registration Plan Enforcement Subcommittee (the “Subcommittee”) will continue its work in developing and implementing the Unified Carrier Registration Plan and Agreement. The subject matter of this meeting will include:

Proposed Agenda

I. Call to Order—UCR Enforcement Subcommittee Chair

The UCR Enforcement Subcommittee Chair will welcome attendees, call the meeting to order, call roll for the Subcommittee, confirm whether a quorum is present, and facilitate self-introductions.

II. Verification of Publication of Meeting Notice—UCR Executive Director

The UCR Executive Director will verify the publication of the meeting notice on the UCR website and distribution to the UCR contact list via email followed by the subsequent publication of the notice in the Federal Register.

III. Review and Approval of Subcommittee Agenda and Setting of Ground Rules—UCR Enforcement Subcommittee Chair

For Discussion and Possible Subcommittee Action

The Subcommittee Agenda will be reviewed, and the Subcommittee will consider adoption.

Ground Rules

Subcommittee action only to be taken in designated areas on agenda.

IV. Review and Approval of Subcommittee Minutes From the March 5, 2025, Meeting—UCR Enforcement Subcommittee Chair

For Discussion and Possible Subcommittee Action

Draft minutes from the March 5, 2025, Subcommittee meeting will be reviewed. The Subcommittee will consider action to approve.

V. Review of 2025 Enforcement Rates—UCR Enforcement Subcommittee Chair, UCR Enforcement Subcommittee Vice-Chair

The UCR Enforcement Subcommittee Chair and UCR Enforcement Subcommittee Vice-Chair will review a variety of tools and activities undertaken in 2025 to conduct enforcement activities in the states.

VI. 2025 Awareness Initiatives—UCR Enforcement Subcommittee Chair, UCR Enforcement Subcommittee Vice-Chair

The UCR Enforcement Subcommittee Chair and UCR Enforcement Subcommittee Vice-Chair will lead a discussion of an overview of the June 2025 UCR Enforcement Awareness Initiative.

VII. Discussion on Creation of Enforcement Card for Enforcement Officers—UCR Enforcement Subcommittee Member Willie Smith

The UCR Enforcement Subcommittee Member Willie Smith will provide an update on the creation of an enforcement card to be utilized for enforcement officers.

VIII. Discussion on Enforcement Related to Covered Farm Vehicles—UCR Enforcement Subcommittee Member Willie Smith

The UCR Enforcement Subcommittee Member Willie Smith will lead a discussion on inspections and enforcement related to covered farm vehicles.

IX. Discussion on Fraudulent UCR Receipts—UCR Enforcement Subcommittee Vice-Chair

The UCR Enforcement Subcommittee Vice-Chair will lead a discussion to further promote awareness of fraudulent registration receipts.

X. Other Business—UCR Enforcement Subcommittee Chair

The UCR Enforcement Subcommittee Chair will call for any other items Subcommittee members would like to discuss.

XI. Adjournment—UCR Enforcement Subcommittee Chair

The UCR Enforcement Subcommittee Chair will adjourn the meeting.

The agenda will be available no later than 5:00 p.m. Eastern time, July 9, 2025 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2025-12997 Filed 7-9-25; 11:15 am]

BILLING CODE 4910-YL-P